FEDERAL COMMUNICATIONS COMMISSION

47 CFR Part 90

[WP Docket No. 07-100, DA 07-3256]

Amendment of Part 90 of the Commission's Rules; Correction

AGENCY: Federal Communications Commission.

ACTION: Correcting amendments.

SUMMARY: In this document, the Federal Communications Commission (“Commission”) published in the Federal Register of Wednesday, June 27, 2007, a document, wherein §§ 90.20(d)(42), 90.157, 90.203(n) and 90.235(e) was incorrectly amended. This document corrects those amendments.

DATES: Effective on July 27, 2007.

FOR FURTHER INFORMATION CONTACT: Rodney P. Conway, at Rodney.Conway@FCC.gov, Wireless Telecommunications Bureau, (202) 418-2904, or TTY (202) 418-7233; or via e-mail at Rodney.Conway@fcc.gov.

SUPPLEMENTARY INFORMATION:

Background

The final regulations that are subject to these corrections supersedes §§ 90.20, 90.157, 90.203 and 90.235.

Need for Correction

As published, the final regulations contain errors which may prove to be misleading and need to be clarified.

List of Subjects in 47 CFR Part 90

Administrative practice and procedure, Common carriers, Communications equipment, Radio.

Accordingly, 47 CFR part 90 is corrected by making the following correcting amendments:

PART 90—PRIVATE LAND MOBILE RADIO SERVICES

1. The authority citation for part 90 continues to read as follows:

Authority: Sections 4(i), 11, 303(g), 303(r), and 332(c)(7) of the Communications Act of 1934, as amended, 47 U.S.C. 154(i), 161, 303(g), 303(r), and 332(c)(7).

2. Amend § 90.20 by revising paragraph (d)(42) to read as follows:

§ 90.20 Public Safety Pool.

* * * * *

(d) * * *

(42) This frequency may not be assigned within 161 km (100 miles) of New Orleans, La. (coordinates 29°56′53″ N and 90°04′10″ W).

* * * * *

3. Revise § 90.157 to read as follows:

§ 90.157 Discontinuance of station operation.

(a) An authorization shall cancel automatically upon permanent discontinuance of operations. Unless stated otherwise in this part or in a station authorization, for the purposes of this section, any station which has not operated for one year or more is considered to have been permanently discontinued.

(b) For DSRCS Roadside Units (RSUs) in the 5850-5925 MHz band, it is the DSRCS licensee's responsibility to delete from the registration database any RSUs that have been discontinued.

4. Amend § 90.203 by revising paragraph (n) to read as follows:

§ 90.203 Certification required.

* * * * *

(n) Transmitters designed to operate in the voice mode on channels designated in §§ 90.531(b)(5) or 90.531(b)(6) that do not provide at least one voice path of 6.25 kHz of spectrum bandwidth shall not be manufactured in or imported into the United States after December 31, 2014. Marketing of these transmitters shall not be permitted after December 31, 2014.

* * * * *

5. Amend § 90.235 by revising paragraph (e) to read as follows:

§ 90.235 Secondary fixed signaling operations.

* * * * *

(e) Until December 31, 1999, for systems in the Public Safety Pool authorized prior to June 20, 1975, and Power and Petroleum licensees as defined in § 90.7 authorized prior to June 1, 1976, the maximum duration of any signaling transmission shall not exceed 6 seconds and shall not be repeated more than 5 times. For Power licensees authorized between June 1, 1976, and August 14, 1989, signaling duration shall not exceed 2 seconds and shall not be repeated more than 5 times. Such systems include existing facilities and additional facilities which may be authorized as a clear and direct expansion of existing facilities. After December 31, 1999, all signaling systems shall be required to comply with the 2 second message duration and 3 message repetition requirements.

* * * * *

Federal Communications Commission.
Scot Stone,
Deputy Chief, Mobility Division.

[FR Doc. E7-15085 Filed 8-7-07; 8:45 am]

BILLING CODE 6712-01-P